FEDERAL COMMUNICATIONS COMMISSION

[OMB 3060-1035, OMB 3060-1290; FR ID 135847]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before June 12, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-1035.

Title: Part 73, Subpart F International Broadcast Stations.

Form No.: FCC Forms 309-IBFS, 310-IBFS, 311-IBFS, and 426.

Type of Review: Revision of a currently approved collection.

Respondents: Business or other for-profit entities.

Number of Respondents/Responses: 258 respondents; 258 responses.

Estimated Time per Response: 2-720 hours.

Frequency of Response: Recordkeeping requirement; On occasion, semi-annual, weekly and annual reporting requirements.

Obligation To Respond: Required to obtain or retain benefits. The statutory authority for this information collection is contained in Sections 1, 4(i), 301, 303, 307, 308(b) 334, 336, 554 of the Communications Act of 1934, as amended, 47 U.S.C. 151, 154(i), 301, 303, 307, 308(b), 334, 336, 554, and Part 73 of the Commission's rules.

Total Annual Burden: 20,125 hours.

Annual Cost Burden: $123,230.

Needs and Uses: The Federal Communications Commission (“Commission”) is requesting that the Office of Management and Budget (OMB) approve a revision of the information collection titled “Part 73, Subpart F International Broadcast Stations” under OMB Control No. 3060-1035.

The Commission has updated the International Bureau Filing System (IBFS) to allow for filing of electronic forms directly into the system through an integrated web-based program with fillable fields. The integrated web-based program requires the use of an FCC Registration Number (FRN) and includes support for Form 309-IBFS, 310-IBFS, and 311-IBFS. The new system also includes a standardized form to file frequency requests, Form 426, which were previously done through email correspondence and approved as part of this collection. Applicants will be required to submit these forms through the integrated web-based program. Filing through the web-based program will reduce the burden hours on the on applicants. Therefore, this information collection is being revised to reflect the new form format for Forms 309-IBFS, 310-IBFS and 311-IBFS, the new Form 426, and changes in costs associated with the automated functions of the forms.

On July 13, 2021, the Commission released an Order titled, “In the Matter of Mandatory Electronic Filing of Section 325(c) Applications, International Broadcast Applications, and Dominant Carrier Section 63.10(c) Quarterly Reports” (FCC 21-87). Over the past decades, the Commission has made significant progress to upgrade and modernize its filing systems and procedures. The purpose of this Order is to require that any remaining applications and reports administered by the International Bureau and filed on paper or through an alternative filing process be filed only electronically through the Commission's International Bureau Filing System (IBFS).

The information collected pursuant to the rules set forth in 47 CFR part 73 Subpart F is used by the Commission to assign frequencies for use by international broadcast stations, to grant authority to operate such stations, and to determine if interference or adverse propagation conditions exists that may impact the operation of such stations. If the Commission did not collect this information, it would not be in a position to effectively coordinate spectrum for international broadcasters or to act for entities in times of frequency interference or adverse propagation conditions. The orderly nature of the provision of international broadcast service would be in jeopardy without the Commission's involvement.

The full title and purpose of each application are summarized below:

1. Application for Authority to Construct or Make Changes in an International, Experimental Television, Experimental Facsimile, or a Developmental Broadcast Station (FCC Form 309-IBFS)—The FCC Form 309-IBFS is filed on occasion when the applicant is requesting authority to construct or make modifications to the international broadcast station.

2. Application for an International, Experimental Television, Experimental Facsimile, or a Developmental Broadcast Station License (FCC Form 310-IBFS)—The FCC Form 310-IBFS is filed on occasion when the applicant is submitting an application for a new international broadcast station.

3. Application for Renewal of an International or Experimental Broadcast Station License (FCC Form 311-IBFS)—The FCC Form 311-IBFS is filed by applicants who are requesting renewal of their international broadcast station licenses.

4. Application for International High Frequency Broadcasting—Frequency Coordination Request (Form 426)—The FCC Form 426 is filed by applicants who are requesting frequencies for an upcoming broadcast season.

As part of and in addition to the FCC Forms 309-IBFS, 310-IBFS and 311-IBFS, this information collection includes the following collections of information:

1. 47 CFR 1.1301-1.1319 cover certifications of compliance with the National Environmental Policy Act and how the public will be protected from radio frequency radiation hazards.

2. 47 CFR 73.702(a) states that six months prior to the start of each season, licensees and permittees shall by informal written request, submitted to the Commission electronically in the International Bureau Filing System (IBFS), indicate for the season the frequency or frequencies desired for transmission to each zone or area of reception specified in the license or permit, the specific hours during which it desires to transmit to such zones or areas on each frequency, and the power, antenna gain, and antenna bearing it desires to use. Requests will be honored to the extent that interference and propagation conditions permit and that they are otherwise in accordance with the provisions of section 47 CFR 73.702(a).

3. 47 CFR 73.702(b) states that two months before the start of each season, the licensee or permittee must electronically inform the Commission in IBFS as to whether it plans to operate in accordance with the Commission's authorization or operate in another manner.

4. 47 CFR 73.702(c) permits entities to file requests for changes to their original request electronically in IBFS for assignment and use of frequencies if they are able to show good cause. Because international broadcasters are assigned frequencies on a seasonal basis, as opposed to the full term of their eight-year license authorization, requests for changes need to be filed by entities on occasion.

5. 47 CFR 73.702(d) (note) states that permittees who during the process of construction wish to engage in equipment tests shall by informal written request, submitted to the Commission in IBFS not less than 30 days before they desire to begin such testing, indicate the frequencies they desire to use for testing and the hours they desire to use those frequencies.

6. 47 CFR 73.702(e) states within 14 days after the end of each season, each licensee or permittee must file a report with the Commission electronically in IBFS, stating whether the licensee or permittee has operated the number of frequency hours authorized by the seasonal schedule to each of the zones or areas of reception specified in the schedule.

7. 47 CFR 73.702(h)(2) states that International Broadcast Stations must submit sufficient antenna performance information electronically in IBFS to ensure that during the hours of 0800-1600 UTC (Coordinated Universal Time) antenna gain with reference to an isotropic radiator in any easterly direction that would intersect any area in Region 2 shall not exceed 2.15 dBi.

8. 47 CFR 73.702(i) Note 4 specifies that seasonal requests for frequency-hours will be only for transmissions to zones or areas of reception specified in the basic instrument of authorization. Changes in such zones or areas will be made only on separate application for modification of such instruments electronically in IBFS.

9. 47 CFR 73.702(j) requires a showing of good cause made electronically in IBFS a licensee may be authorized to operate on more than one frequency at any one time to transmit any one program to a single zone or area of reception.

10. 47 CFR 73.702(m) requires a showing made electronically in IBFS that good cause exists for not having its requested number of frequency-hours reduced and that operation of its station without such reduction would be consistent with the public interest may be authorized the frequency-hours requested, when the total maximum number of frequency-hours which will be authorized to all licensees of international broadcasting stations during any one day for any season is 100.

11. 47 CFR 73.713—Program Tests

(a) Upon completion of construction of an international broadcasting station in accordance with the terms of the construction permit, the technical provisions of the application therefor, and the rules and regulations and the applicable engineering standards, and when an application for station license has been filed showing the station to be in satisfactory operating condition, the permittee may request authority to conduct program tests. Such request shall be electronically filed with the FCC in the International Filing System (IBFS) at least 10 days prior to the date on which it is desired to begin such operation. All data necessary to show compliance with the terms and conditions of the construction permit must be filed with the license application.

(b) Program tests shall not commence until specific Commission authority is received. The Commission reserves the right to change the date of the beginning of such tests or to suspend or revoke the authority for program tests as and when such action may appear to be in the public interest, convenience, and necessity.

(c) Unless sooner suspended or revoked, program test authority continues valid during Commission consideration of the application for license and during this period further extension of the construction permit is not required. Program test authority shall be automatically terminated by final determination upon the application for station license.

(d) All operation under program test authority shall be in strict compliance with the rules governing international broadcasting stations and in strict accordance with representations made in the application for license pursuant to which the tests were authorized.

(e) The granting of program test authority shall not be construed as approval by the Commission of the application for station license.

12. 47 CFR 73.731—Licensing requirements

(a) A license for an international broadcasting station will be issued only after a satisfactory showing has been made in regard to the following, among others:

(1) That there is a need for the international broadcasting service proposed to be rendered.

(2) That the necessary program sources are available to the applicant to render the international service proposed.

(3) That the production of the program service and the technical operation of the proposed station will be conducted by qualified persons.

(4) That the applicant is legally, technically and financially qualified and possesses adequate technical facilities to carry forward the service proposed.

(5) That the public interest, convenience and necessity will be served through the operation of the proposed station.

13. 47 CFR 73.732—Authorizations—Authorizations issued to international broadcasting stations by the Commission will be authorizations to permit the construction or use of a particular transmitting equipment combination and related antenna systems for international broadcasting, and to permit broadcasting to zones or areas of reception specified on the instrument of authorization. The authorizations will not specify the frequencies to be used or the hours of use. Requests for frequencies and hours of use will be made by electronic filing in the International Bureau Filing system (IBFS) as provided in § 73.702. Seasonal schedules, when issued pursuant to the provisions of § 73.702, will become attachments to and part of the instrument of authorization, replacing any such prior attachments.

14. 47 CFR 73.759(c)(2) states that the transmission of regular programs during maintenance or modification work on the main transmitter, necessitating discontinuance of its operation for a period not to exceed 5 days. (This includes the equipment changes which may be made without authority as set forth elsewhere in the rules and regulations or as authorized by the Commission by letter or by construction permit. Where such operation is required for periods in excess of 5 days, request therefor shall be made electronically in the International Bureau Filing System (IBFS) in accordance with § 73.3542 of this chapter.)

15. 47 CFR 73.759(d) states that the licensee or permittee must keep records of the time and results of each auxiliary transmitter test performed at least weekly.

16. 47 CFR 73.761 states that specific authority, upon electronic filing of a formal application (FCC Form 309) therefor in the International Bureau Filing System (IBFS), is required for some changes specified in this section. Other changes, not specified in this section, may be made at any time without the authority of the Commission: Provided, that the Commission shall be immediately notified electronically in IBFS thereof and such changes shall be shown in the next application for renewal of license.

17. 47 CFR 73.762(b) requires that licensees notify the Commission in by electronic filing in the International Bureau Filing System (IBFS) of any limitation or discontinuance of operation of not more than 10 days.

18. 47 CFR 73.762(c) states that the licensee or permittee must request by electronic filing in IBFS and receive specific authority from the Commission to discontinue operations for more than 10 days under extenuating circumstances.

19. 47 CFR 73.782 requires that licensees retain logs of international broadcast stations for two years. If it involves communications incident to a disaster, logs should be retained as long as required by the Commission.

20. 47 CFR 73.3533 Application for construction permit or modification of construction permit.

(a) Application for construction permit, or modification of a construction permit, for a new facility or change in an existing facility is to be made on the following forms:

(1) FCC Form 301, “Application for Authority to Construct or Make Changes in an Existing Commercial Broadcast Station.”

(2) FCC Form 309, “Application for Authority to Construct or Make Changes in an Existing International or Experimental Broadcast Stations.” For International Broadcast Stations, applications shall be filed electronically in the International Bureau Filing System (IBFS).

(3) [Reserved]

(4) FCC Form 340, “Application for Authority to Construct or Make Changes in a Noncommercial Educational Broadcast Station.”

(5) FCC Form 346, “Application for Authority to Construct or Make Changes in a Low Power TV, TV Translator or TV Booster Station.”

(6) FCC Form 349, “Application for Authority to Construct or Make Changes in an FM Translator or FM Booster Station.”

(7) FCC Form 318, “Application for Construction Permit for a Low Power FM Broadcast Station.”

(b) The filing of an application for modification of construction permit does not extend the expiration date of the construction permit. Extension of the expiration date must be applied for on FCC Form 307, in accordance with the provisions of § 73.3533.

(c) In each application referred to in paragraph (a) of this section, the applicant will provide the Antenna Structure Registration Number (FCC Form 854R) of the antenna structure upon which it will locate its proposed antenna. In the event the antenna structure does not already have a Registration Number, either the antenna structure owner shall file FCC Form 854 (“Application for Antenna Structure Registration”) in accordance with part 17 of this chapter or the applicant shall provide a detailed explanation why registration and clearance of the antenna structure is not necessary.

21. 47 CFR 73.3536(b)(2) Application for license to cover construction permit.

(a) The application for station license shall be filed by the permittee pursuant to the requirements of § 73.1620 Program tests.

(b) The following application forms shall be used:

(1)

i. Form 302-AM for AM stations, “Application for New AM Station Broadcast License.”

ii. Form 302-FM for FM stations, “Application for FM Station License.”

iii. Form 302-TV for television stations, “Application for TV Station Broadcast License.”

(2) FCC Form 310, “Application for an International or Experimental Broadcast Station License.”

(3) [Reserved]

(4) FCC Form 347, “Application for a Low Power TV, TV Translator or TV Booster Station License.”

(5) FCC Form 350, “Application for an FM Translator or FM Booster Station License.”

(6) FCC Form 319, “Application for a Low Power FM Broadcast Station License.”

(c) Eligible low power television stations which have been granted a certificate of eligibility may file FCC Form 302-CA, “Application for Class A Television Broadcast Station Construction Permit Or License.”

22. 47 CFR 73.3539 Application for renewal of license.

(a) Unless otherwise directed by the FCC, an application for renewal of license shall be filed not later than the first day of the fourth full calendar month prior to the expiration date of the license sought to be renewed, except that applications for renewal of license of an experimental broadcast station shall be filed not later than the first day of the second full calendar month prior to the expiration date of the license sought to be renewed. If any deadline prescribed in this paragraph falls on a nonbusiness day, the cutoff shall be the close of business of the first full business day thereafter. For International Broadcast Stations, applications shall be filed electronically in the International Bureau Filing System (IBFS).

(b) No application for renewal of license of any broadcast station will be considered unless there is on file with the FCC the information currently required by §§ 73.3612 through 73.3615, inclusive, for the particular class of station.

(c) Whenever the FCC regards an application for a renewal of license as essential to the proper conduct of a hearing or investigation, and specifically directs that it be filed by a date certain, such application shall be filed within the time thus specified. If the licensee fails to file such application within the prescribed time, the hearing or investigation shall proceed as if such renewal application had been received.

(d) Renewal application forms titles and numbers are listed in § 73.3500, Application and Report Forms.

OMB Control No.: 3060-1290.

Title: Application for Voluntary Assignment of Transfers and Controls, 47 CFR 73.3540.

Form No.: FCC Forms 314-IBFS, 315-IBFS, and 316-IBFS.

Type of Review: Revision of a currently approved collection.

Respondents: Business or other for-profit entities; Individuals and Households.

Number of Respondents/Responses: 2 respondents; 2 responses.

Estimated Time per Response: 10 hours.

Frequency of Response: Recordkeeping requirement and On occasion reporting requirement.

Obligation To Respond: The statutory authority for this information collection is contained in Sections The statutory authority for this information collection is contained in Sections 1, 4(i), 301, 303, 307, and 308(b) 334, 336, 554 of the Communications Act of 1934, as amended, 47 U.S.C. 151, 154(i), 301, 303, 307, 308(b), 334, 336, 554, and Part 73 of the Commission's rules.

Total Annual Burden: 20 hours.

Annual Cost Burden: $1,305.

Needs and Uses: The Federal Communications Commission (“Commission”) is requesting that the Office of Management and Budget (OMB) approve a revision of the information collection titled “Application for Voluntary Assignment of Transfers and Controls, 47 CFR 73.3540” under OMB Control Number 3060-1290.

The Commission has updated the International Bureau Filing System (IBFS) to allow for filing of electronic forms directly into the system through an integrated web-based program with fillable fields. The integrated web-based program requires the use of an FCC Registration Number (FRN) will include support for Forms 314-IBFS, 315-IBFS, and 316-IBFS. Applicants will be required to submit these forms through the integrated web-based program. The forms were previously in development but are now completed and included as part of this collection.

On July 13, 2021, the Commission released an Order titled, “In the Matter of Mandatory Electronic Filing of Section 325(c) Applications, International Broadcast Applications, and Dominant Carrier Section 63.10(c) Quarterly Reports.” The purpose of this Order is to require that any remaining applications and reports administered by the International Bureau and filed on paper or through an alternative filing process be filed only electronically through the Commission's International Bureau Filing System (IBFS).

In July 2021, OMB approved this information collection under OMB Control No 3060-1290 to implement mandatory electronic filing of International Broadcast station applications in the International Bureau Filing System (IBFS). The versions of FCC Forms 314, 315, and 316 to be used by International Bureau licensees were renamed as FCC Form 314-IBFS, FCC Form 315-IBFS and FCC Form 316-IBFS. These forms will only be used by the International Broadcast stations in IBFS.

Under 47 CFR 73.3540, the filings of the FCC Forms 314-IBFS, 315-IBFS, and 316-IBFS are required when applying for consent for assignment of a broadcast station construction permit or license. In addition, the applicant must notify the Commission when an approved assignment or transfer of control of a broadcast station construction permit or license has been consummated.

The FCC Forms 314, 315, and 316 were previously shared between the Media Bureau and the International Bureau. The forms were used by the International Bureau for International Broadcast stations and by the Media Bureau for other broadcast licenses. These FCC Forms were previously approved by Office of Management and Budget (OMB) for use by Media Bureau licensees under OMB 3060-0031 and OMB 3060-0009.

Accordingly, the early forms included references to all broadcast services. The new version of the forms removes references to all services except for International Broadcast stations, since they are only used for these stations. The changes also remove references to rules that do not apply to International Broadcast stations and updates the instructions to comport with the new sections.

Specifically, the Commission modified its rules to mandate the electronic filing of, among other things, applications for International Broadcast Stations, including applications for voluntary assignments and transfers of control. These mandatory electronic filing requirements will reduce costs and administrative burdens, result in greater efficiencies, facilitate faster and more efficient communications, and improve transparency to the public. The changes to section 73.3540 (c) and (d) state that “[f]or International Broadcast Stations, the application shall be filed electronically in the International Bureau Filing System (IBFS).” There are currently fewer than 20 International Broadcast stations subject to obligations in section 73.3540, and the International Bureau receives an average of one application involving voluntary transactions per year pursuant to section 73.3540.

§ 73.3540 Application for Voluntary Assignment or Transfer of Control

(a) Prior consent of the FCC must be obtained for a voluntary assignment or transfer of control.

(b) Application should be filed with the FCC at least 45 days prior to the contemplated effective date of assignment or transfer of control.

(c) Application for consent to the assignment of construction permit or license must be filed on FCC Form 314 “Assignment of license” or FCC Form 316 “Short form” (See paragraph (f) of this section). For International Broadcast Stations, the application shall be filed electronically in the International Bureau Filing System (IBFS).

(d) Application for consent to the transfer of control of a corporation holding a construction permit or license must be filed on FCC Form 315 “Transfer of Control” or FCC Form 316 “Short form” (see paragraph (f) of this section). For International Broadcast Stations, the application shall be filed electronically in the IBFS.

(e) Application for consent to the assignment of construction permit or license or to the transfer of control of a corporate licensee or permittee for an FM or TV translator station, a low power TV station and any associated auxiliary station, such as translator microwave relay stations and UHF translator booster stations, only must be filed on FCC Form 345 “Application for Transfer of Control of Corporate Licensee or Permittee, or Assignment of License or Permit for an FM or TV translator Station, or a Low Power TV Station.”

(f) The following assignment or transfer applications may be filed on FCC “Short form” 316:

(1) Assignment from an individual or individuals (including partnerships) to a corporation owned and controlled by such individuals or partnerships without any substantial change in their relative interests;

(2) Assignment from a corporation to its individual stockholders without effecting any substantial change in the disposition of their interests;

(3) Assignment or transfer by which certain stockholders retire and the interest transferred is not a controlling one;

(4) Corporate reorganization which involves no substantial change in the beneficial ownership of the corporation;

(5) Assignment or transfer from a corporation to a wholly owned subsidiary thereof or vice versa, or where there is an assignment from a corporation to a corporation owned or controlled by the assignor stockholders without substantial change in their interests; or

(6) Assignment of less than a controlling interest in a partnership.

Federal Communications Commission.
Marlene Dortch,
Secretary, Office of the Secretary.

[FR Doc. 2023-07662 Filed 4-11-23; 8:45 am]

BILLING CODE 6712-01-P